ENVIRONMENTAL PROTECTION AGENCY

[ER-FRL-8598-9]

Environmental Impact Statements; Notice of Availability

Responsible Agency: Office of Federal Activities, General Information (202) 564-1399 or http://www.epa.gov/compliance/nepa/.

Weekly Receipt of Environmental Impact Statements

Filed 10/26/2009 Through 10/30/2009

Pursuant to 40 CFR 1506.9.

EIS No. 20090371, Draft EIS, NPS, KY, Cumberland Gap National Historical Park, General Management Plan, Implementation, Middlesboro, KY, Comment Period Ends: 01/04/2010, Contact: David Libman, 404-507-5701.

EIS No. 20090372, Draft EIS, FRBSF, WA, Federal Reserve Bank of San Francisco, Propose to sell the Property at 1015 Second Avenue that is Eligible for Listing on the National Register of Historic Places, located in Seattle, WA, Comment Period Ends: 12/21/2009, Contact: Robert Kellar, 415-974-2655.

EIS No. 20090373, Draft Supplement, BLM, NV, On Line Project, (Previously Known as Ely Energy Center) Proposed 236-mile long 500 kV Electric Transmission Line from a new substation near Ely, Nevada approximately 236 miles south to the existing Harry Allen substation near Las Vegas, Clark, Lincoln, Nye and White Pine Counties, NV, Comment Period Ends: 12/21/2009, Contact: Michael Dwyer, 702-821-7102.

EIS No. 20090374, Draft EIS, DOE, MS, Kemper County Integrated Gasification Combined-Cycle (IGCC) Project, Construction and Operation of Advanced Power Generation Plant, U.S. Army COE Section 404 Permit, Kemper County, MS, Comment Period Ends: 12/21/2009, Contact: Richard A. Hargis, Jr., 412-386-6065.

EIS No. 20090375, Final EIS, AFS, OR, Deadlog Vegetation Management Project, To Implement Treatments that would Reduce the Risk of High Intensity, Stand Replacement Wildlife and the Risk of Heavy Tree Mortality from Insects and Disease, Deschutes National Forest Lands, Deschutes County, OR, Wait Period Ends: 12/07/2009, Contact: Beth Peer, 541-383-4769.

EIS No. 20090376, Draft EIS, AFS, CA, Piute Fire Restoration Project, Proposes to Salvage Dead and Dying Trees, Treat Excess Fuels, and Plant Trees, Kern River Ranger District, Sequoia National Forest, Kern County, CA, Comment Period Ends: 12/21/2009, Contact: Barbara Johnston, 559-784-1500 Ext 1220.

EIS No. 20090377, Draft EIS, BOP, 00, Criminal Alien Requirement 9 Project, Proposal to Contract with one or more Private Contractors to House up to 2,500 Federal, Low-Security, Adult Male, Non-U.S. Citizen, Criminal Aliens at Contractor Owned and Operated Correctional Facilities, Located in Baldwin, MI and/or Lake City, FL, Comment Period Ends: 12/21/2009, Contact: Issac Gaston, 202-514-6470.

EIS No. 20090378, Draft EIS, COE, MN, NorthMet Project, Proposes to Construct and Operate an Open Pit Mine and Processing Facility, Located in Hoyt Lakes—Babbitt Area of St. Louis County, MN, Comment Period Ends: 02/02/2010, Contact: Jon K. Ahlness, 651-290-5381.

Dated: November 3, 2009.
Ken Mittelholtz,
Deputy Director, NEPA Compliance Division, Office of Federal Activities.

[FR Doc. E9-26826 Filed 11-5-09; 8:45 am]

BILLING CODE 6560-50-P